DEPARTMENT OF ENERGY

Federal Energy Regulatory Commission

Combined Notice of Filings #1

April 07, 2009.

Take notice that the Commission received the following electric rate filings:

Docket Numbers: ER01-1418-010; ER02-1238-010; ER03-28-004; ER03-398-011.

Applicants: Effingham County Power, LLC; MPC Generating, LLC; Walton County Power, LLC; Washington County Power, LLC.

Description: Effingham County Power, LLC et al. submits substitute tariff sheets to the 12/31/08 filing of updated market power analysis.

Filed Date: 04/06/2009.

Accession Number: 20090407-0354.

Comment Date: 5 p.m. Eastern Time on Thursday, April 16, 2009.

Docket Numbers: ER08-682-002.

Applicants: Idaho Power Company.

Description: Compliance Filing of Idaho Power Company.

Filed Date: 04/06/2009.

Accession Number: 20090406-5122.

Comment Date: 5 p.m. Eastern Time on Monday, April 27, 2009.

Docket Numbers: ER08-1360-001.

Applicants: PacifiCorp.

Description: PacifiCorp submits Second Amended and Restated Transmission Service and Operating Agreement between PacifiCorp and Utah Municipal Power Agency.

Filed Date: 03/30/2009.

Accession Number: 20090403-0137.

Comment Date: 5 p.m. Eastern Time on Monday, April 20, 2009.

Docket Numbers: ER09-88-002.

Applicants: Southern Company Services, Inc.

Description: Southern Companies submits the attached two tariffs sheets to Southern Companies Market-Based Rate Tariff.

Filed Date: 04/03/2009.

Accession Number: 20090407-0543.

Comment Date: 5 p.m. Eastern Time on Friday, April 24, 2009.

Docket Numbers: ER09-404-002.

Applicants: Langdon Wind, LLC.

Description: Refund Report of Langdon Wind, LLC.

Filed Date: 04/06/2009.

Accession Number: 20090406-5114.

Comment Date: 5 p.m. Eastern Time on Monday, April 27, 2009.

Docket Numbers: ER09-556-001; ER08-367-004; ER06-615-044.

Applicants: California Independent System Operator Corporation

Description: California Independent System Operator Corp submits a compliance filing.

Filed Date: 03/30/2009.

Accession Number: 20090403-0141.

Comment Date: 5 p.m. Eastern Time on Monday, April 20, 2009.

Docket Numbers: ER09-642-001.

Applicants: Niagara Mohawk Power Corporation.

Description: Niagara Mohawk Power Corporation et al. submits amended Huntley IA in an Order 614- compliant format as Attachment A to the instant filing.

Filed Date: 04/03/2009.

Accession Number: 20090407-0539.

Comment Date: 5 p.m. Eastern Time on Friday, April 24, 2009.

Docket Numbers: ER09-729-001.

Applicants: Avista Corporation.

Description: Avista Corporation submits FERC Revised Sheet 1 et al. to FERC Electric Tariff Revised Volume 11 for approval.

Filed Date: 04/03/2009.

Accession Number: 20090407-0541.

Comment Date: 5 p.m. Eastern Time on Tuesday, April 14, 2009.

Docket Numbers: ER09-730-001.

Applicants: PJM Interconnection LLC.

Description: PJM Interconnection, LLC submits revised PJM Open Access Transmission Tariff sheets.

Filed Date: 03/30/2009.

Accession Number: 20090403-0140.

Comment Date: 5 p.m. Eastern Time on Monday, April 20, 2009.

Docket Numbers: ER09-952-000.

Applicants: Dayton Power and Light Company, Duke Energy Business Services, LLC.

Description: Duke Energy Ohio, Inc submits Interconnection Agreement between The Dayton Power and Light Company and Duke Energy Business, LLC.

Filed Date: 04/03/2009.

Accession Number: 20090406-0097.

Comment Date: 5 p.m. Eastern Time on Friday, April 24, 2009.

Docket Numbers: ER09-953-000.

Applicants: PJM Interconnection LLC.

Description: PJM Interconnection, LLC submits executed interconnection service agreement entered into among PJM, Virginia Electric and Power Company.

Filed Date: 04/03/2009.

Accession Number: 20090406-0099.

Comment Date: 5 p.m. Eastern Time on Friday, April 24, 2009.

Docket Numbers: ER09-955-000.

Applicants: Southwestern Electric Power Company.

Description: Southwestern Electric Power Company submits 2009 Formula Rates: Post Employment Benefits Other Than Pensions and Post Employment Benefits.

Filed Date: 04/03/2009.

Accession Number: 20090406-0100.

Comment Date: 5 p.m. Eastern Time on Friday, April 24, 2009.

Docket Numbers: ER09-956-000.

Applicants: Ameren Services Company.

Description: Union Electric Company submits Original Service Agreement 2037 to FERC Electric Tariff, Third Revised Volume 1.

Filed Date: 04/03/2009.

Accession Number: 20090406-0098.

Comment Date: 5 p.m. Eastern Time on Friday, April 24, 2009.

Docket Numbers: ER09-957-000.

Applicants: Southern California Edison Company.

Description: Southern California Edison Company submits letter agreement between SCE and First Solar Electric, LLC.

Filed Date: 04/06/2009.

Accession Number: 20090407-0545.

Comment Date: 5 p.m. Eastern Time on Monday, April 27, 2009.

Docket Numbers: ER09-958-000.

Applicants: Central Vermont Public Service Corp.

Description: Central Vermont Public Service Corporation revisions to Schedule 2—CV of the ISO New England, Inc FERC Electric Tariff 3 Section II—Open Access Transmission Tariff.

Filed Date: 04/06/2009.

Accession Number: 20090407-0544.

Comment Date: 5 p.m. Eastern Time on Monday, April 27, 2009.

Docket Numbers: ER09-959-000.

Applicants: Westar Energy, Inc.

Description: Westar Energy, Inc submits Petition for Approval of Settlement Agreement.

Filed Date: 04/06/2009.

Accession Number: 20090407-0548.

Comment Date: 5 p.m. Eastern Time on Monday, April 27, 2009.

Take notice that the Commission received the following electric securities filings:

Docket Numbers: ES09-24-000.

Applicants: The Detroit Edison Company.

Description: Application of The Detroit Edison Company for Authorization of the Issuance of Short-term Debt Securities.

Filed Date: 04/07/2009.

Accession Number: 20090407-5014.

Comment Date: 5 p.m. Eastern Time on Tuesday, April 28, 2009.

Take notice that the Commission received the following electric reliability filings:

Docket Numbers: RR07-16-006.

Applicants: North American Electric Reliability Corp.

Description: Compliance Filing of the North American Electric Reliability Corporation in Response to February 19, 2009 Order Concerning SPP Regional Entity Use of NERC System of Accounts.

Filed Date: 04/06/2009.

Accession Number: 20090406-5113.

Comment Date: 5 p.m. Eastern Time on Monday, April 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-8451 Filed 4-13-09; 8:45 am]

BILLING CODE 6717-01-P